FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Zaklee International Corporation, 777 Henderson Blvd., Bay 2A, Folcroft, PA 190132, Officers: Daniel Zakorchemny, President, (Qualifying Individual), Sung Yin Zakorchemny, Vice President.

G & F West Indies Shipping, 1416 Blue Hill Avenue, #1, Boston, MA 02126, Duncan B. Greenwood, Soul Proprietor.

Montero Shipping Corp., 2341 Hoffman Street, Bronx, NY 10458, Officer: Derqui Noel Montero, President, (Qualifying Individual).

Logistics Unlimited, Inc., 23187 La Cadena, Laguna Hills, CA 92653, Officers: Michelle Rouillard, Vice President, (Qualifying Individual), Ted Shown, President.

Dated: January 10, 2003.
Bryant L. VanBrakle,
Secretary.

[FR Doc. 03-873 Filed 1-14-03; 8:45 am]

BILLING CODE 6730-01-P